DEPARTMENT OF HEALTH AND HUMAN SERVICES

National Committee on Vital and Health Statistics, Population Health Subcommittee: Meeting

Pursuant to the Federal Advisory Committee Act, the Department of Health and Human Services (HHS) announces the following advisory committee meeting.

Name: National Committee on Vital and Health Statistics (NCVHS), Subcommittees on Population Health and Privacy, Confidentiality & Security.

Time and Date: April 30, 2013-May 2, 2013, 9:00 a.m.-5:00 p.m. EST.

Place: National Center for Health Statistics, 3311 Toledo Road, Hyattsville, MD 20782, Tel: 1-301-458-4200.

Status: Open.

Purpose: The purpose of this meeting is to provide an opportunity for the Population Health and Privacy, Confidentiality and Security Subcommittees to hear from data providers, users, and experts in health data on community uses of data to improve health. NCVHS seeks to: (1) Advance its understanding of access to and use of data by communities to improve population health; (2) refine its Stewardship Framework for the Use of Community Health to support the needs of various types of community initiatives; and (3) better understand the role of government in providing data, tools, and resources to promote community driven change.

The agenda is organized for attendees to participate in breakout groups throughout the day exploring such topics and themes as “How best to promote community engagement and participation,” “How to promote secure practices,” “How to achieve information-enabled community-driven change,” “What is the need for standardized approaches for generating qualitative information,” and ending with “What analytic support can state and the Federal government provide.” Participants will be briefed on the results of a preliminary environmental scan of programs supporting local community data use as well as key messages from the Committee's report: the Community as a Learning System: Using Local Data to Improve Local Health. http://www.ncvhs.hhs.gov/111213chip.pdf.

Contact Person for More Information: Marjorie S. Greenberg, Executive Secretary, NCVHS, National Center for Health Statistics, Centers for Disease Control and Prevention, 3311 Toledo Road, Room 2402, Hyattsville, Maryland 20782, telephone (301) 458-4245 or Maya Bernstein, lead staff for the Privacy, Confidentiality & Security Subcommittee, NCVHS, Hubert H. Humphrey Building, Department of Health & Human Services, 200 Independence Ave SW., Washington, DC 20201, Telephone (202) 690-5896. Program information as well as summaries of meetings and a roster of committee members are available on the NCVHS home page of the HHS Web site: http://www.ncvhs.hhs.gov/, where further information including an agenda will be posted when available.

Should you require reasonable accommodation, please contact the CDC Office of Equal Employment Opportunity on (301) 458-4EEO (4336) as soon as possible.

Dated: March 28, 2013.
James Scanlon,
Deputy Assistant Secretary for Planning and Evaluation, Office of the Assistant Secretary for Planning and Evaluation.

[FR Doc. 2013-08025 Filed 4-4-13; 8:45 am]

BILLING CODE 4151-05-P